DEPARTMENT OF COMMERCE

National Institute of Standards and Technology

National Voluntary Laboratory Accreditation Program (NVLAP); Workshop for Establishing the System Integration Testing and Operational/User Acceptance Testing Accreditation Program

AGENCY: National Institute of Standards and Technology, Commerce.

ACTION: Announcement of public workshop.

SUMMARY: The National Institute of Standards and Technology (NIST) announces a public workshop to be held on November 19, 2019, at Joint Base Langley-Eustis, Hampton Virginia. The purpose of the workshop is the exchange of information among the National Voluntary Laboratory Accreditation Program (NVLAP), the United States Department of Defense (DoD), and any national and federal laboratories interested in seeking accreditation to perform System Integration Testing (SIT) and Operational/User Acceptance Testing (OAT/UAT).

DATES: The workshop will be held 9:00 a.m.-4:00 p.m. Eastern Time on November 19, 2019.

ADDRESSES: The meeting will be held at the Creech Conference Center (Amphitheater), located at 190 Dodd Boulevard, Joint Base Langley-Eustis, Virginia 23665. Please note registration and admittance instructions under the SUPPLEMENTARY INFORMATION section of this notice.

FOR FURTHER INFORMATION CONTACT: Brad Moore, Program Manager, NIST/NVLAP, 100 Bureau Drive, Stop 2140, Gaithersburg, MD 20899-2140, Phone: (301) 975-5740 or email: bradley.moore@nist.gov.

Information regarding the National Voluntary Laboratory Accreditation Program (NVLAP) and the accreditation process can be obtained from http://www.nist.gov/nvlap.

SUPPLEMENTARY INFORMATION: The U-2 Federal Laboratory requested that NIST establish a laboratory accreditation program to evaluate the technical qualifications and competence of DoD laboratories performing System Integration Testing (SIT) and Operational/User Acceptance Testing (OAT/UAT) in support of Federal Major Weapon Systems (MWS). NIST will hold a public workshop to solicit comments on the proposed establishment of this laboratory accreditation program. The public workshop will also solicit input for the technical requirements necessary for such a laboratory accreditation program. The purpose of the proposed Federal Major Weapon Systems (MWS) Laboratory Accreditation Program would be to evaluate testing laboratories' technical competencies against known standards and testing criteria that will ultimately be used to provide confidence in the performance of these laboratories to test weapon systems. Test methods proposed are test and evaluation methods ascribed by the International Software Testing Qualifications Board (ISTQB) and American Software Testing Qualifications Board (ASTQB). Other guidance proposed for this potential accreditation program include Department of Defense Instructions (DoDI), service-specific instructions, as well as additional defense standards regarding information assurance, cyber security, airworthiness, and military standards and specifications (MIL-STD/MIL-SPEC). Additional standards may be identified throughout any development of the accreditation program technical requirements.

This notice is issued in accordance with NVLAP procedures and general requirements, found in 15 CFR part 285.

NVLAP provides an unbiased, third-party evaluation and recognition of competence. NVLAP accreditation signifies that a laboratory has demonstrated that it operates in accordance with NVLAP management and technical requirements pertaining to management systems, personnel, accommodation and environment, test and calibration methods, equipment, measurement traceability, sampling, handling of test and calibration items, and test and calibration reports.

NVLAP accreditation does not imply any guarantee (certification) of laboratory performance or test/calibration data. NVLAP accreditation is a finding of laboratory competence.

All visitors are required to pre-register by close of business Friday, November 8, 2019. To pre-register and for access to Joint Base Langley-Eustis, please send the following information to 99RS.RND.LAB@us.af.mil:

✓ For Department of Defense employees in possession of a valid Common Access Card (CAC), please include the following information:

• Visitor Name (Last, First Middle)

• Rank (or if contractor; Contract Number)

• Service/Organization

✓ For Non-Department of Defense employees, please include the following information:

• Visitor Name (Last, First Middle)

• Birthdate (MMDDYY)

• State of Driver's License or State ID (State Only)

• State of Driver's License or State ID (Number)

All visitors are subject to a background check conducted by Security Forces and Air Force Office of Special Investigations. We regret to inform that we are unable to process incomplete requests.

Authority: 15 U.S.C. 272 et seq.

Kevin A. Kimball,
Chief of Staff.

[FR Doc. 2019-22412 Filed 10-11-19; 8:45 am]

BILLING CODE 3510-13-P